NATIONAL AERONAUTICS AND SPACE ADMINISTRATION

[Notice: (22-001)]

Requirement for NASA Recipients of Financial Assistance Awards To Obtain a Quotation From Small and/or Minority Businesses, Women's Business Enterprises and Labor Surplus Area Firms

AGENCY: National Aeronautics and Space Administration.

ACTION: Request for public comment on new term and condition that requires recipients of NASA financial assistance to obtain a quotation from small and/or minority businesses, women's business enterprises or labor surplus area firms.

SUMMARY: The Grants Policy and Compliance Branch (GPC) in the National Aeronautics and Space Administration's (NASA) Office of the Chief Financial Officer is soliciting public comment on the Agency's proposed implementation of a new term and condition that requires recipients of NASA financial assistance to obtain a quotation from small and/or minority businesses, women's business enterprises or labor surplus area firms when the acquisition of goods or services exceeds the simplified acquisition threshold. In response to the Executive Order, Advancing Racial Equity and Support for Underserved Communities Through the Federal Government, NASA has been working to identify and address barriers that underserved communities and individuals may face in taking advantage of procurement, contracting, or grant opportunities. To address these barriers, NASA has taken a few actions including proposing the term and condition described above. NASA is taking this action to ensure that entities funded by NASA are compliant with the procurement standards in the uniform guidance. NASA's expectation is that this action will result in an increase in contracting opportunities for small and/or minority businesses, women's business enterprises and labor surplus area firms that contract with NASA financial assistance recipients.

DATES: Comments must be received by February 10, 2022.

ADDRESSES: Comments should be addressed to National Aeronautics and Space Administration Headquarters, 300 E Street SW, Rm. 6O87, Washington, DC 20546 or sent by email to HQ-fedregcomments@nasa.gov; Phone Number: 202-358-2180, FAX Number: 202-358-3336. We encourage respondents to submit comments electronically to ensure timely receipt. We cannot guarantee that comments mailed will be received before the comment closing date. Please include “Requirement to obtain a quotation from small and/or minority businesses, women's business enterprises or labor surplus area firms” in the subject line of the email message. Please also include the full body of your comments in the text of the message and as an attachment. Include your name, title, organization, postal address, telephone number, and email address in your message.

FOR FURTHER INFORMATION CONTACT: Christiane S. Diallo, email: Christiane.diallo@nasa.gov, telephone (202) 358-5179.

SUPPLEMENTARY INFORMATION: On January 25, 2021, President Biden issued E.O. 13985, Advancing Racial Equity and Support for Underserved Communities Through the Federal Government, outlining a comprehensive approach to advancing equity for all, including people of color and others who have been historically underserved, marginalized, and adversely affected by persistent poverty and inequality. Given that advancing equity requires a systematic approach to embedding fairness in the decision-making process, the E.O. instructs agencies to recognize and work to redress inequities in their policies and programs that serve as barriers to equal opportunity.

In response to E.O. 13985, NASA has been working to identify and address barriers that underserved communities and individuals may face in taking advantage of procurement, contracting, or grant opportunities. Through focused engagement with stakeholders and comments received from 86 FR 31735, June 15, 2021, Request for Information on Advancing Racial Equity and Support for Underserved Communities in NASA Programs, Contracts and Grants Process, NASA has learned that access to information and a lack of resources and opportunities are just some of the barriers faced by underserved communities. As such, GPC has reviewed NASA's grants management policies and procedures and has identified a few actions that can be taken to reduce these barriers, including a proposed implementation of a new term and condition that requires recipients of NASA financial assistance to obtain a quotation from small and/or minority businesses, women's business enterprises or labor surplus area firms when the acquisition of goods or services exceeds the simplified acquisition threshold.

The full text of the new term and condition is provided below:

Requirement To Obtain a Quotation From Small and/or Minority Businesses, Women's Business Enterprises or Labor Surplus Area Firms

Pursuant to the requirements in 2 CFR 200.321, Contracting with small and minority businesses, women's business enterprises, and labor surplus area firms, grant and cooperative agreement recipients shall, to the extent practicable, obtain at least one quotation in response to a recipient-issued Request for Quotation (RFQ) from a small and/or minority business, women's business enterprise or labor surplus area firms when the acquisition of goods or services exceeds the simplified acquisition threshold (SAT) as defined in the Federal Acquisition Regulation (FAR) part 2.101, Definitions (currently the SAT is $250,000). In the event that recipients are unable to obtain at least one quote from a small and/or minority business women's business enterprise or labor surplus area firm, a written justification indicating why this was not possible must be maintained in the recipient's records.

End of Proposed Term and Condition Implementation

Upon receipt and resolution of all comments, it is NASA's intention to implement the new term through a revision to the NASA Grant and Cooperative Agreement Manual (GCAM). These revised terms and conditions will become effective thirty days from the final notice publication date in the Federal Register and will be available in the GCAM.

The new term and condition will be applied to all new NASA awards and funding amendments to existing awards made on or after the effective date.

Cheryl Parker,
Federal Register Liaison Officer.

[FR Doc. 2022-00302 Filed 1-10-22; 8:45 am]

BILLING CODE 7510-13-P